DEPARTMENT OF HOMELAND SECURITY

Coast Guard

33 CFR Part 100

[Docket No. USCG-2016-0959]

Special Local Regulations; Key West World Championship, Key West, FL

AGENCY: Coast Guard, DHS.

ACTION: Notice of enforcement of regulation.

SUMMARY: The Coast Guard will enforce the Key West World Championship Special Local Regulation from 9:30 a.m. until 4:30 p.m. on November 9, 11, and 13, 2016. This action is necessary to ensure safety of life on navigable waters of the United States and to protect race participants, participant vessels, spectators, and the general public from the hazards associated with high-speed boat races. During the enforcement period, and in accordance with previously issued special local regulations, no person or vessel may enter the regulated area without permission from the Captain of the Port Key West or a designated representative.

DATES: The regulations in 33 CFR 100.701 will be enforced from 9:30 a.m. until 4:30 p.m. on November 9, 11, and 13, 2016, for the marine event listed in item (c)(9) in the Table to § 100.701.

FOR FURTHER INFORMATION CONTACT: If you have questions on this notice, call or email Lieutenant Scott Ledee, Sector Key West Waterways Management Department, Coast Guard; telephone (305) 292-8768, email Scott.G.Ledee@uscg.mil.

SUPPLEMENTARY INFORMATION: The Coast Guard will enforce the Special Local Regulation for the annual Key West World Championship Super Boat Race in Table to § 100.701, item (c)(9) from 9:30 a.m. until 4:30 p.m. on November 9, 11, and 13, 2016.

On November 9, 11, and 13, 2016, Super Boat International Productions, Inc. is hosting the Key West World Championship, a series of high-speed boat races.

Under the provisions of 33 CFR 100.701, no unauthorized person or vessel may enter, transit through, anchor within, or remain in the established regulated areas unless permission to enter has been granted by the Captain of the Port Key West or designated representative. This action is to provide enforcement action of regulated area that will encompass portions of the waters of the Atlantic Ocean located southwest of Key West, Florida. The Coast Guard may be assisted by other Federal, State, or local law enforcement agencies in enforcing this regulation.

This notice of enforcement is issued under authority of 33 CFR 100.701 and 5 U.S.C. 552(a). The Coast Guard will provide notice of the regulated area by Local Notice to Mariners, Broadcast Notice to Mariners, and on-scene designated representatives. If the Captain of the Port Key West determines that the regulated area need not be enforced for the full duration stated in this publication, he or she may use a Broadcast Notice to Mariners to grant general permission to enter the regulated area.

Dated: October 25, 2016.
J.A. Janszen,
Captain, U.S. Coast Guard, Captain of the Port Key West.

[FR Doc. 2016-26695 Filed 11-3-16; 8:45 am]

BILLING CODE 9110-04-P